DEPARTMENT OF AGRICULTURE

Agricultural Marketing Service

[Docket Number FV-06-307]

United States Standards for Grades of Mushrooms

AGENCY: Agricultural Marketing Service, USDA.

ACTION: Notice.

SUMMARY: The Agricultural Marketing Service (AMS), prior to undertaking research and other work associated with revising official grade standards, is soliciting comments on the possible revisions of the United States Standards for Grades of Mushrooms. At a meeting with the Fruit and Vegetable Industry Advisory Committee, AMS was asked to review the Fresh Fruit and Vegetable grade standards for usefulness in serving the industry. As a result, AMS has identified the United States Standards for Grades of Mushrooms for possible revision.

AMS is considering proposed revisions that would allow the standards to be used for open veil types of mushrooms, include small, medium, and large size classifications for open veil types of mushrooms; revise the current size classifications (small to medium and large) as well as an addition of a button and jumbo size for the closed veil types of mushrooms; and eliminate the unclassified category. AMS is seeking comments regarding these changes as well as any other revisions that may be necessary to better serve the industry.

DATES: Comments must be received by July 25, 2006.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, e-mail FPB.DocketClerk@usda.gov. Comments should make reference to the dates and page number of this issue of the Federal Register and will be made available for public inspection in the above office during regular business hours. The United States Standards for Grades of Mushrooms are available either at the above address or by accessing the AMS, Fresh Products Branch Web site at: http://www.ams.usda.gov/standards/stanfrfv.htm.

FOR FURTHER INFORMATION CONTACT: Cheri L. Emery, at the above address or call (202) 720-2185; E-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities. AMS makes copies of official standards available upon request. The United States Standards for Grades of Fruits and Vegetables not connected with Federal Marketing Orders or U.S. Import Requirements no longer appear in the Code of Federal Regulations, but are maintained by USDA/AMS/Fruit and Vegetable Programs.

AMS is considering revisions to the voluntary United States Standards for Grades of Mushrooms using procedures that appear in Part 36, Title 7 of the Code of Federal Regulations (7 CFR part 36). These standards were last revised on July 15, 1966.

Background

At a meeting with the Fruit and Vegetable Industry Advisory Committee, AMS was asked to review the Fresh Fruit and Vegetable grade standards for usefulness in serving the industry. AMS has identified the United States Standards for Grades of Mushrooms for possible revision. Prior to undertaking detailed work to develop the proposed revisions to the standards, AMS is soliciting comments on the proposed revisions and any other comments on the United States Standards for Grades of Mushrooms to better serve the industry.

AMS is considering revising the requirement to be free from open veils to read “Additionally, closed veil types shall be free from open veils.” AMS is also considering revising the definition of mature to read “Mature means that the mushroom is firm and well developed; for closed veil types the veil area may be stretched but not broken.” Unlike the current standards, these proposed revisions would allow the standards to be used for open veil types of mushrooms.

Additionally, AMS is considering revising the size section from its current classifications of small to medium (up to 1⅝ inches in diameter) and large (over 1⅝ inches in diameter) to incorporate current size classifications being used by industry for closed veil types of mushrooms, and add size classifications for open veil types of mushrooms. The size classifications for closed veil types of mushrooms would be: Button mushrooms shall be less than 1¼ inches in diameter, medium mushrooms shall be 1¼ inches to less than 2 inches in diameter, large mushrooms shall be 2 inches to less than 2¾ inches in diameter, and jumbo mushrooms shall be 2¾ inches in diameter and larger. The proposed size classifications for open veil types of mushrooms are: Small mushrooms shall be less than 3 inches in diameter, medium mushrooms shall be 3 inches to less than 4 inches in diameter, and large mushrooms shall be 4 inches in diameter and larger. AMS also would eliminate the unclassified category. This section is being removed in all standards, when they are revised. This category is not a grade and only serves to show that no grade has been applied to the lot. It is no longer considered necessary. These revisions would bring the standards for mushrooms in line with current marketing practices, thereby improving the usefulness in serving the industry.

This notice provides for a 60-day comment period for interested parties to comment on the proposed changes to the United States Standards for Grades of Mushrooms. Should AMS conclude that revisions are needed, it will develop a proposed revised standard that will be published in the Federal Register with a request for comments in accordance with 7 CFR part 36.

Authority: 7 U.S.C. 1621-1627.

Dated: May 22, 2006.
Lloyd C. Day,
Administrator, Agricultural Marketing Service.

[FR Doc. E6-8102 Filed 5-25-06; 8:45 am]

BILLING CODE 3410-02-P